DEPARTMENT OF TRANSPORTATION

National Highway Traffic Safety Administration

[Docket No. NHTSA-2019-0048; Notice 1]

Porsche Cars North America, Inc., Receipt of Petition for Decision of Inconsequential Noncompliance

AGENCY: National Highway Traffic Safety Administration (NHTSA), Department of Transportation (DOT).

ACTION: Receipt of petition.

SUMMARY: Porsche Cars North America, Inc. (Porsche), has determined that certain model year (MY) 2008-2019 Porsche Cayenne and Macan motor vehicles do not comply with Federal Motor Vehicle Safety Standard (FMVSS) 110, Tire Selection and Rims and Motor Home/Recreation Vehicle Trailer Load Carrying Capacity Information for Motor Vehicles with a GVWR of 4,536 kilograms (10,000 pounds) or Less. Porsche filed a noncompliance report dated March 28, 2019, and subsequently petitioned NHTSA on April 20, 2019, for a decision that the subject noncompliance is inconsequential as it relates to motor vehicle safety. This notice announces receipt of Porsche's petition.

DATES: Send comments on or before November 14, 2019.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: Porsche has determined that certain MY 2008-2019 Porsche Cayenne and Macan motor vehicles do not fully comply with paragraphs S4.4.2(a) and S4.4.2(c) of FMVSS No. 110, Tire Selection and Rims and Motor Home/Recreation Vehicle Trailer Load Carrying Capacity Information for Motor Vehicles with a GVWR of 4,536 kilograms (10,000 pounds) or Less (49 CFR 571.110). Porsche filed a noncompliance report dated March 28, 2019, pursuant to 49 CFR part 573, Defect and Noncompliance Responsibility and Reports, and subsequently petitioned NHTSA on April 20, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Porsche's petition is published under 49 U.S.C. 30118 and 30120 and does not represent any agency decision or other exercise of judgment concerning the merits of the petition.

II. Vehicles Involved: Approximately 230,212 of the following MY 2008-2019 Porsche Cayenne and Macan motor vehicles, manufactured between June 1, 2007, and September 21, 2018, are potentially involved:

• MY 2008-2014 Porsche Cayenne;

• MY 2017-2018 Porsche Cayenne “Platinum Edition;”

• MY 2014 Porsche Cayenne Diesel “Platinum Edition;”

• MY 2014 Porsche Cayenne “Platinum Edition;”

• MY 2013-2016 Porsche Cayenne Diesel;

• MY 2019 Porsche Cayenne E-Hybrid;

• MY 2008-2010 Porsche Cayenne GTS;

• MY 2013-2014 Porsche Cayenne GTS;

• MY 2010 Porsche Cayenne GTS “Porsche Design Edition 3;”

• MY 2008-2010 Porsche Cayenne GTS;

• MY 2016-2018 Porsche Cayenne GTS;

• MY 2015-2018 Porsche Cayenne S E-Hybrid;

• MY 2011-2014 Porsche Cayenne S Hybrid;

• MY 2010 Porsche Cayenne S Transsyberia;

• MY 2008-2018 Porsche Cayenne S;

• MY 2017-2018 Porsche Cayenne S E-Hybrid “Platinum Edition;”

• MY 2008-2019 Porsche Cayenne Turbo;

• MY 2009-2010 Porsche Cayenne Turbo S;

• MY 2016-2018 Porsche Cayenne Turbo S;

• MY 2014 Porsche Cayenne Turbo S;

• MY 2015-2018 Porsche Macan Turbo;

• MY 2017-2018 Porsche Macan;

• MY 2018 Porsche Macan “Sport Edition;”

• MY 2017-2018 Porsche Macan GTS;

• MY 2015-2018 Porsche Macan S; and

• MY 2017-2018 Porsche Macan Turbo Plus Performance Package.

III. Noncompliance: Porsche explains that the noncompliance is that the subject vehicles are equipped with rims that do not contain the required rim markings as specified in paragraph S4.4.2 of FMVSS No. 110. Specifically, the rims on the subject vehicles do not contain the designation symbol “E” as required by paragraph S4.4.2(a) of FMVSS No. 110 and the certification symbol “DOT” as required by paragraph S4.4.2(c) of FMVSS No. 110.

IV. Rule Requirements: Paragraphs S4.4.2(a) and S4.4.2(c) of FMVSS 110, include the requirements relevant to this petition. Each rim or, at the option of the manufacturer in the case of a single-piece wheel, each wheel disc shall be marked with the designation that indicates the source of the rim's published nominal dimensions, specifically, “E” indicating The European Tyre and Rim Technical Organization and the symbol DOT, constituting a certification by the manufacturer of the rim that the rim complies with all applicable FMVSS.

V. Summary of Petition: Porsche described the subject noncompliance and stated its belief that the noncompliance is inconsequential as it relates to motor vehicle safety.

In support of its petition, Porsche submitted the following reasoning:

1. With respect to FMVSS No. 110, paragraph S4.4.2(c), the DOT marking signifies that the manufacturer of the rim has certified that the rim complies with all applicable FMVSSs. As the DOT marking is a “certification,” it is a violation of 49 U.S.C. 30115 (“Certification”), which does not require notification or remedy. Porsche asserts that this is consistent with NHTSA's prior decision on petitions for the same issue. (See 74 FR 69376).

2. With respect to FMVSS No. 110, paragraph S4.4.2(a), Porsche believes that the omission of the designation symbol “E” will not prevent the proper matching of tires and rims because sufficient information about rim size is available from other markings on the rim and the corresponding owner's manual instructions. More specifically, Porsche states, the rims are marked correctly with the size designation; the correct tire size information is listed on the Tire and Loading Information placard, and the tire size is marked on the tire sidewall. The vehicles' Certification label also contains the correct tire and rim sizes. Importantly, the omitted marking does not affect the ability to identify the rims in the event of a recall and is not likely to have any effect on motor vehicle safety. Porsche asserts that this is again consistent with NHTSA's prior decision on petitions for the same. (See 74 FR 69376).

3. The tire and rim of the affected spare wheels are properly matched, and are appropriate for the load-carrying characteristics of the subject vehicle. Porsche asserts that the incorrect association marking has no effect on the performance of the tire/rim combination.

4. The subject tire/rim assembly meets paragraph S4.4.1(b) rapid air loss requirement of FMVSS No. 110. All other applicable requirements of FMVSS Nos. 109 and 110 have been met.

5. Lastly, Porsche is unaware of any accidents, injuries, or customer complaints related to the omitted markings.

Porsche's complete petition and all supporting documents are available by logging onto the Federal Docket Management System (FDMS) website at https://www.regulations.gov and by following the online search instructions to locate the docket number as listed in the title of this notice.

Porsche concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Porsche no longer controlled at the time it determined that the noncompliance existed. However, any decision on this petition does not relieve vehicle distributors and dealers of the prohibitions on the sale, offer for sale, or introduction or delivery for introduction into interstate commerce of the noncompliant vehicles under their control after Porsche notified them that the subject noncompliance existed.

Authority: (49 U.S.C. 30118, 30120: delegations of authority at 49 CFR 1.95 and 501.8)

Otto G. Matheke III,
Director, Office of Vehicle Safety Compliance.

[FR Doc. 2019-22347 Filed 10-11-19; 8:45 am]

BILLING CODE 4910-59-P